DEPARTMENT OF ENERGY

Federal Energy Regulatory Commission

Combined Notice of Filings #1

Take notice that the Commission received the following electric corporate filings:

Docket Numbers: EC21-80-000.

Applicants: Knighthead Capital Management, LLC, Homer City Generation, L.P.

Description: Application for Authorization Under Section 203 of the Federal Power Act of Homer City Generation, L.P., et al.

Filed Date: 4/20/21.

Accession Number: 20210420-5059.

Comments Due: 5 p.m. ET 5/11/21.

Docket Numbers: EC21-81-000.

Applicants: Coram California Development, L.P.

Description: Application for Authorization Under Section 203 of the Federal Power Act of Coram California Development, L.P.

Filed Date: 4/19/21.

Accession Number: 20210419-5320.

Comments Due: 5 p.m. ET 5/10/21.

Take notice that the Commission received the following exempt wholesale generator filings:

Docket Numbers: EG21-128-000.

Applicants: Triple Butte LLC.

Description: Self-Certification of Exempt Wholesale Generator of Triple Butte LLC.

Filed Date: 4/19/21.

Accession Number: 20210419-5212.

Comments Due: 5 p.m. ET 5/10/21.

Take notice that the Commission received the following electric rate filings:

Docket Numbers: ER21-1276-001.

Applicants: Midcontinent Independent System Operator, Inc., American Transmission Company LLC.

Description: Tariff Amendment: 2021-04-20_SA 2793 ATC-City of Eagle River Substitute 1st Rev CFA to be effective 5/5/2021.

Filed Date: 4/20/21.

Accession Number: 20210420-5021.

Comments Due: 5 p.m. ET 5/11/21.

Docket Numbers: ER21-1277-001.

Applicants: Midcontinent Independent System Operator, Inc., American Transmission Company LLC.

Description: Tariff Amendment: 2021-04-20_SA 2794 ATC-City of Gladstone Substitute 1st Rev CFA to be effective 5/5/2021.

Filed Date: 4/20/21.

Accession Number: 20210420-5031.

Comments Due: 5 p.m. ET 5/11/21.

Docket Numbers: ER21-1713-000.

Applicants: Midcontinent Independent System Operator, Inc.

Description: § 205(d) Rate Filing: 2021-04-19_Attachment X, App. 1 Interconnection Request Requirement Changes to be effective 6/19/2021.

Filed Date: 4/19/21.

Accession Number: 20210419-5171.

Comments Due: 5 p.m. ET 5/10/21.

Docket Numbers: ER21-1714-000.

Applicants: PJM Interconnection, L.L.C.

Description: Tariff Cancellation: Notice of Cancellation ISA, Service Agreement No. 5557; Queue No. AE2-057 to be effective 5/21/2021.

Filed Date: 4/20/21.

Accession Number: 20210420-5018.

Comments Due: 5 p.m. ET 5/11/21.

Docket Numbers: ER21-1715-000.

Applicants: PJM Interconnection, L.L.C.

Description: § 205(d) Rate Filing: Amendment to Service Agreement No. 5548; Queue No. AC1-076/AE2-134 to be effective 12/16/2019.

Filed Date: 4/20/21.

Accession Number: 20210420-5032.

Comments Due: 5 p.m. ET 5/11/21.

Docket Numbers: ER21-1716-000.

Applicants: BP Energy Retail LLC.

Description: Baseline eTariff Filing: Application for Market-Based Rate Authority to be effective 6/20/2021.

Filed Date: 4/20/21.

Accession Number: 20210420-5039.

Comments Due: 5 p.m. ET 5/11/21.

Docket Numbers: ER21-1717-000.

Applicants: Duke Energy Florida, LLC.

Description: § 205(d) Rate Filing: DEF—Annual Update of Real Power Loss Factors (2021) to be effective 5/1/2021.

Filed Date: 4/20/21.

Accession Number: 20210420-5055.

Comments Due: 5 p.m. ET 5/11/21.

Docket Numbers: ER21-1718-000.

Applicants: Idaho Power Company.

Description: § 205(d) Rate Filing: Goshen Substation Upgrades to be effective 3/9/2021.

Filed Date: 4/20/21.

Accession Number: 20210420-5058.

Comments Due: 5 p.m. ET 5/11/21.

Take notice that the Commission received the following PURPA 210(m)(3) filings:

Docket Numbers: QM21-19-000.

Applicants: Otter Tail Power Company.

Description: Application of Otter Tail Power Company to Terminate Its Mandatory Purchase Obligation under the Public Utility Regulatory Policies Act of 1978.

Filed Date: 4/19/21.

Accession Number: 20210419-5216.

Comments Due: 5 p.m. ET 5/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2021.
Kimberly D. Bose,
Secretary.

[FR Doc. 2021-08609 Filed 4-23-21; 8:45 am]

BILLING CODE 6717-01-P